DEPARTMENT OF STATE

[Public Notice 6090]

Notice of Receipt of Application for a Presidential Permit to Construct, Operate, and Maintain a New Border Crossing Facility on the U.S.-Canada Border at Buffalo, New York and Fort Erie, Ontario

SUMMARY: The Department of State hereby gives notice that, on January 15, 2008, it received an application for a Presidential Permit to authorize the construction, operation, and maintenance of a new border crossing facility on the U.S.-Canada border at Buffalo, NY and Fort Erie, Ontario. The proposed new crossing, a vehicular bridge across the Niagara River, would be approximately one and one half miles north of the existing Peace Bridge across the Niagara River and would connect to existing roads via an interchange with State Route 198 (Scajaquada Expressway) leading to Interstate Route 190 (I-190, the Niagara Section of the New York State Thruway). The application was filed by the Ambassador Niagara Signature Bridge Group (ANSBG). According to the application, ANSBG is an unincorporated unit of the Detroit International Bridge Company (DIBC), a Michigan corporation. As stated in the application, DIBC, along with a related Canadian corporation, the Canadian Transit Company (CTC), own and operate the Ambassador Bridge across the Detroit River, connecting Detroit, Michigan and Windsor, Ontario and DIBC and CTC are ultimately owned by Manuel J. and Matthew T. Maroun.

The Department of State's jurisdiction over this application is based upon Executive Order 11423 of August 16, 1968, as amended, and the International Bridge Act of 1972, 33 U.S.C. 535, et seq. As provided in E.O. 11423, the Department is circulating this application to relevant Federal and State agencies for review and comment. Under E.O. 11423 and the International Bridge Act, the Department has the responsibility to determine, taking into account input from these agencies and other interested stakeholders, whether this proposed border crossing is in the U.S. national interest.

DATES: Interested members of the public are invited to submit written comments regarding this application on or before April 28, 2008 to Ms. Eleanore Fox, Officer for Border Affairs, via e-mail at WHACAN@state.gov or by mail at WHA/CAN—room 3917, Department of State, 2201 C Street NW., Washington, DC 20520.

FOR FURTHER INFORMATION CONTACT: Ms. Eleanore Fox, Officer for Border Affairs, via e-mail at WHACAN@state.gov or by mail at WHA/CAN—room 3917, Department of State, 2201 C Street NW., Washington, DC 20520. General information about Presidential Permits is available on the Internet at http://www.state.gov/p/wha/rt/permit.

SUPPLEMENTARY INFORMATION: This application and related environmental documents are available for review in the Office of Canadian Affairs, Department of State, during normal business hours.

Dated: January 31, 2008.
Alex Lee,
Director, Office of Canadian Affairs, Department of State.

[FR Doc. E8-2080 Filed 2-4-08; 8:45 am]

BILLING CODE 4710-29-P